DEPARTMENT OF ENERGY

National Nuclear Security Administration Office of Los Alamos Site Operations; Floodplain Statement of Finding for the Connector Road Between Technical Areas 22 and 8 at Los Alamos National Laboratory, Los Alamos, New Mexico

AGENCY: National Nuclear Security Administration, Office of Los Alamos Site Operations, Department of Energy.

ACTION: Floodplain Statement of Finding.

SUMMARY: This Floodplain Statement of Findings is for the construction of a connector road about one mile in length between Technical Areas (TAs) 22 and 8 at Los Alamos National Laboratory (LANL). A short segment, less than 200 feet in length, of the road will cross a floodplain area within Pajarito Canyon, located within the western portion of LANL. In accordance with 10 CFR part 1022, the Department of Energy (DOE), National Nuclear Security Administration (NNSA) Office of Los Alamos Site Operations has prepared a floodplain/wetland assessment and will perform this proposed action in a manner so as to avoid or minimize potential harm to or within the affected floodplain.

FOR FURTHER INFORMATION CONTACT: Elizabeth Withers, U.S. Department of Energy, National Nuclear Security Administration, Office of Los Alamos Site Operations, 528 35th Street, Los Alamos, NM 87544. Telephone (505) 667-8690, of facsimile (505) 667-9998; or electronic address: ewithers@doeal.gov. For Further Information on General DOE Floodplain Environmental Review Requirements, contact: Carol M. Borgstrom, Director, Office of NEPA Policy and Compliance, EH-42, Department of Energy, 100 Independence Avenue, SW., Washington DC 20585-0119. Telephone (202) 586-4600 or (800) 472-2756, facsimile (202) 586-7031.

SUPPLEMENTARY INFORMATION: In accordance with DOE regulations for compliance with floodplain and wetlands environmental review requirements (10 CFR part 1022), NNSA prepared a floodplain/wetland assessment for this action. The NNSA published a Notice of Floodplain Involve (Volume 67, Number 63). This Notice announced that the floodplain/wetland assessment document was available for a 15-day review period and that copies of the document could be obtained by contacting Ms. Withers at the above address or were available for review at two public DOE reading rooms in Los Alamos and Albuquerque, New Mexico. No comments were received from the Federal Register notice on the proposed floodplain action.

Project Description: In March 2002, NNSA considered a proposal for constructing about a mile-long, two lane paved road that would link TA-22 with an existing road, Anchor Ranch Road, within TA-8. This new road will provide a second means for access to facilities located at TA-22; the existing TA-22 access road will be restricted to emergency use. The new road will correct traffic safety hazards associated with use of the existing TA-22 access road. The area surrounding TA-22 and TA-8 is forested and having a secondary access road to the TA-22 facilities is an important fire safety measure. Construction of the road will commence in fiscal year 2003 and be completed in less than 12 months.

Alternatives: Alternative routes for the road were considered but eliminated from future consideration. A combination of site factors were considered that lead to the identification of the proposed route as being the least disruptive to existing environmental resources in the area. The location of the road will also serve as a appropriately placed fuel break for enhancing the protection of TA-22 facilities in the event of a wildfire.

Floodplain Impacts: The proposed action would have the potential for minimal impacts the floodplain. Should a rain event occur during this activity, there may be some sediment movement down canyon because of the loosened condition of the soil from the clearing and construction activities.

Floodplain Mitigation: Placement of Best Management Practices (such as silt fences, straw bales or wattles, or wooden or rock structures to slow down water runoff and run-on at cleared sites) at the construction area and post-construction reseeding and revegetation along the sides of the roadway will minimize soil disturbance and reduce or prevent the potential for soil erosion. The road design will include an appropriately culvert so that downstream flow and function of the floodplain will not be impeded. No debris will be left at the work site. No vehicle maintenance or fueling within 100 feet of the floodplain would occur. Any sediment movement from the site would be short term and temporary.

Issued in Los Alamos, New Mexico on April 16, 2002.
Joseph Vozella,
Acting Director, Department of Energy, National Nuclear Security Administration, Office of Los Alamos Site Operations.

[FR Doc. 02-10020 Filed 4-23-02; 8:45 am]

BILLING CODE 6450-01-P